DEPARTMENT OF HEALTH AND HUMAN SERVICES

Health Resources and Services Administration

Agency Information Collection Activities: Submission to OMB for Review and Approval; Public Comment Request; COVID-19 Provider Relief Fund and American Rescue Plan Rural Payment Reporting Activities, OMB No. 0906-0068—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than February 6, 2026.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: COVID-19 Provider Relief Fund and American Rescue Plan Rural Payment Reporting Activities, OMB No. 0906-0068—Revision.

Abstract: HRSA disbursed the COVID-19 Provider Relief Fund (PRF) and American Rescue Plan (ARP) Rural payments to eligible health care providers to support health care-related expenses or lost revenues attributable to the COVID-19 pandemic. Recipients of PRF and ARP Rural payments agreed to a set of Terms and Conditions (T&C), which, among other requirements, mandate compliance with certain reporting requirements that facilitate appropriate oversight of recipients' use of funds. Providers who have attested to the T&Cs regarding their PRF and ARP Rural payment(s), including the requirement that the provider “shall submit reports as the Secretary determines are needed to ensure compliance with conditions that are imposed on this Payment, and such reports shall be in such form, with such content, as specified by the Secretary in future program instructions directed to all recipients,” will use the HRSA Consolidated PRF Reporting Portal to submit information about their use of PRF and ARP Rural payments.

There will be one new Data Form Element, the Repayment ID, which is generated by HRSA and provided in the email giving the recipient the opportunity to report, and it will be entered by the provider in the HRSA Consolidated PRF Reporting Portal. Approximately 50 data elements will be removed from the PRF and ARP Rural Reporting Portal, including sections on personnel, patient, and facility metrics as well as survey questions on the PRF program. This is because these elements are no longer needed, since the data will be needed for more limited cases, as outlined in the “Likely Respondents” section below. In addition, fields related to PRF interest earned, nursing home infection control payment expenditures, and other PRF payment expenditures will be consolidated to overall totals. As a result, the total number of elements that can be submitted by recipients will decline from 123 to approximately 53. Furthermore, the supplemental document “Post-Payment Notice of Reporting Requirements” has been updated to reflect the removal of reporting periods 8 and 9 (including the applicable payment received period and period of availability dates), as the Public Health Emergency ended on May 11, 2023.

A 60-day notice was published in the Federal Register on June 26, 2025, vol. 90, No. 121; pp. 27324-26. There was one out-of-scope comment criticizing the authorizing legislation. No changes were made to the collection.

Need and Proposed Use of the Information: Information collected will allow for (1) assessing whether recipients have met statutory and programmatic requirements, (2) conducting audits, (3) gathering data required to report on findings with respect to the disbursements of PRF and ARP Rural payments, and (4) supporting program evaluation. HRSA staff will also use information collected to identify and report on trends in health care metrics and expenditures before and during the allowable period for expending PRF and ARP Rural payments.

If the information is not collected, HRSA will not fulfill its responsibility to oversee reporting requirements that facilitate appropriate oversight of recipients' use of funds, and PRF and ARP Rural recipients will not be able to fulfill their statutory reporting requirement. HRSA will not be able to provide reports to Congress and other stakeholders on the use of more than $178 billion in PRF funds and $8.5 billion in ARP Rural funds.

Likely Respondents: PRF and ARP Rural payment recipients who have received more than $10,000 in aggregate PRF and ARP Rural payments during one of the Payment Received Periods outlined below and agreed to the associated T&Cs are required to submit a report in the HRSA Consolidated PRF Reporting Portal during the applicable Reporting Time Period.

Reporting period | Payment received period (payments exceeding $10,000 in aggregate received) | Reporting time period
Period 1 | April 10, 2020, to June 30, 2020 | July 1, 2021, to September 30, 2021.
Period 2 | July 1, 2020, to December 31, 2020 | January 1, 2022, to March 31, 2022.
Period 3 | January 1, 2021, to June 30, 2021 | July 1, 2022, to September 30, 2022.
Period 4 | July 1, 2021, to December 31, 2021 | January 1, 2023, to March 31, 2023.
Period 5 | January 1, 2022, to June 30, 2022 | July 1, 2023, to September 30, 2023.
Period 6 | July 1, 2022, to December 31, 2022 | January 1, 2024, to March 31, 2024.
Period 7 | January 1, 2023, to June 30, 2023 | July 1, 2024, to September 30, 2024.

While the standard reporting time periods have ended, there are still scenarios in which providers will be required to submit reporting documents to HRSA. These include:

• Providers who receive a Final Repayment Notice, based on a HRSA finding of reporting non-compliance, who submit a Decision Review request and are provided an Opportunity to Report. The Opportunity to Report allows providers another chance to submit a report to come into compliance.

• Adjudicative orders that would require HRSA to allow a Provider an opportunity to report.

• Providers who have prevailed in a dispute or have entered into a settlement with HRSA may need to submit a report.

These scenarios make it necessary to retain and extend approval of the information collection activities associated with required reporting to support compliance, validation, and enforcement actions. Providers would provide documentation through the HRSA Consolidated PRF Reporting Portal based on the reporting period in which they received the funds in question.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
HRSA Consolidated PRF Reporting Portal, Reporting Period 1 (Providers who received payments April 10, 2020, to June 30, 2020) | 10 | 1 | 10 | 5.43 | 54.30
HRSA Consolidated PRF Reporting Portal, Reporting Period 2 (Providers who received payments July 1, 2020, to December 31, 2020) | 10 | 1 | 10 | 4.22 | 42.20
HRSA Consolidated PRF Reporting Portal, Reporting Period 3 (Providers who received payments, January 1, 2021, to June 30, 2021) | 10 | 1 | 10 | 5.88 | 58.80
HRSA Consolidated PRF and ARP Rural Reporting Portal, Reporting Period 4 (Providers who received payments July 1, 2021, to December 31, 2021) | 10 | 1 | 10 | 5.26 | 52.60
HRSA Consolidated PRF and ARP Rural Reporting Portal, Reporting Period 5 (Providers who received payments January 1, 2022, to June 30, 2022) | 5 | 1 | 5 | 5.18 | 25.90
HRSA Consolidated PRF and ARP Rural Reporting Portal, Reporting Period 6 (Providers who received payments July 1, 2022, to December 31, 2022) | 50 | 1 | 50 | 7.37 | 368.50
HRSA Consolidated PRF and ARP Rural Reporting Portal, Reporting Period 7 (Providers who received payments January 1, 2023, to June 30, 2023) | 5 | 1 | 5 | 5.35 | 26.75
Total | 100 |  | 100 |  | 629.05

Amy P. McNulty,
Deputy Director, Executive Secretariat.

[FR Doc. 2026-00088 Filed 1-6-26; 8:45 am]

BILLING CODE 4165-15-P